DEPARTMENT OF ENERGY

Federal Energy Regulatory Commission

[Docket No. CP08-256-000]

Algonquin Gas Transmission, LLC; Notice of Intent To Prepare an Environmental Assessment for the Proposed J-2 Loop Project and Route Modification and Request for Comments on Environmental Issues

October 21, 2008.

The staff of the Federal Energy Regulatory Commission (FERC or Commission) will prepare an environmental assessment (EA) that will discuss the environmental impacts of the J-2 Loop ¹ Project, involving construction and operation of natural gas facilities by Algonquin Gas Transmission, LLC (Algonquin) in Middlesex County, Massachusetts. The EA will be used by the Commission in its decision-making process to determine whether the project is in the public convenience and necessity.

¹ A loop is a segment of pipeline installed parallel to an existing pipeline and connected to the pipeline system at both ends, allowing more gas to be moved through the pipeline system or function as a backup system.

This notice announces the opening of the shortened scoping period for the proposed route modification filed on October 10, 2008, that will be used to gather environmental input from the public and interested agencies on the project. The route modification was filed in response to stakeholder concerns regarding the proposed crossing location of the Boston and Maine Railroad and is referred to as the Pearl Street Deviation. Your input will help the Commission staff determine what issues need to be evaluated in the EA. Please note that the scoping period will close on November 4, 2008. Details on how to submit comments are provided in the Public Participation section of this notice.

On July 3, 2008, the Commission issued a Notice of Intent (NOI) which announced FERC's initiation of preparing the EA for the J-2 Loop Project. The NOI provided information about the proposed Project, the FERC's environmental review process, and requested comments on the scope of issues to be addressed in the EA. The comment period for the NOI closed on August 2, 2008.

If you are a landowner receiving this notice, you may be contacted by an Algonquin representative about the acquisition of an easement to construct, operate, and maintain the proposed project facilities. The pipeline company would seek to negotiate a mutually acceptable agreement. However, if the project is approved by the Commission, that approval conveys with it the right of eminent domain. Therefore, if easement negotiations fail to produce an agreement, Algonquin could initiate condemnation proceedings in accordance with Massachusetts state law.

A fact sheet prepared by the FERC entitled “An Interstate Natural Gas Facility on My Land? What Do I Need to Know?” addresses a number of typically asked questions, including the use of eminent domain and how to participate in the Commission's proceedings. It is available for viewing on the FERC Internet Web site (http://www.ferc.gov).

Summary of the Proposed Project

Algonquin seeks authorization to construct about 2.3 miles of 14-inch-diameter pipeline and associated facilities within the cities of Medford and Somerville, Massachusetts. The project would commence at an existing meter station adjacent to the Mystic Valley Parkway in Medford and travel in a general southeast direction within road rights-of-way to its terminus at an interconnection with NSTAR Gas Company's (NSTAR) system adjacent to the McGrath Highway/railroad track overpass in Somerville. A meter station and pig ² launcher facility would be constructed at the existing meter station in Medford and a valve and pig receiver would be constructed at the interconnect with NSTAR.

² A pipeline “pig” is a device designed to internally clean or inspect the pipeline. A pig launcher/receiver is an aboveground facility where pigs are inserted or retrieved from the pipeline.

The Pearl Street Deviation involves crossing the Boston & Maine Railroad near milepost 2.0. The Pearl Street Deviation would locate the pipeline in Skilton Avenue and Pearl Street before rejoining the original route on Medford Street. The proposed reroute was developed in consultation with the Massachusetts Bay Transportation Authority (MBTA) to avoid conflicts with a proposed passenger station on the MBTA's Green Line Extension Project.

Appendix A presents a detailed map identifying the pipeline location, including the Pearl Street Deviation, associated with this project.³

³ The appendices referenced in this notice are not being printed in the Federal Register. Copies are available on the Commission's Internet Web site (http://www.ferc.gov) at the “eLibrary” link or from the Commission's Public Reference Room at (202) 502-8371. For instructions on connecting to eLibrary, refer to the “Additional Information” section at the end of this notice. Copies of the appendices were sent to all those receiving this notice in the mail. Requests for detailed maps of the proposed facilities should be made directly to Algonquin.

Land Requirements for Construction

Algonquin would temporarily disturb about 37 acres to construct the new pipeline and about 0.6 acres for aboveground facilities. During operation of the project, Algonquin would affect about 0.33 acres for pipeline maintenance and about 0.04 acres for aboveground facilities.

The majority of the J-2 Loop Project would be constructed within existing roadways, roadside shoulders, and paved parking areas.

The EA Process

We ⁴ are preparing this EA to comply with the National Environmental Policy Act of 1969 (NEPA) which requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this notice, we are requesting public comments on the scope of the issues to be addressed in the EA. All comments received will be considered during the preparation of the EA.

⁴ “We,” “us,” and “our” refer to the environmental staff of the FERC's Office of Energy Projects.

The EA will discuss impacts that could occur as a result of the construction and operation of the proposed project under the following general headings:

• Geology and soils.

• Cultural resources.

• Land use and visual quality.

• Air quality and noise.

• Alternatives.

• Reliability and safety.

We note that the proposed pipeline would be within high-density multi-family residential areas and would require special construction procedures.

Our independent analysis of the issues will be addressed in the EA. Depending on the comments received during the scoping process, the EA may be published for distribution and mailed to Federal, State, and local agencies; public interest groups; interested individuals; affected landowners; newspapers and libraries in the project area; and the Commission's official service list for this proceeding. A comment period will be allotted for review if the EA is published. We will consider all comments on the EA before we make our recommendations to the Commission.

Public Participation

You can make a difference by providing us with your specific comments or concerns about the project. We are specifically requesting comments on the relocated facility locations. Your input will help identify the issues that need to be evaluated in the EA. By becoming a commenter, your concerns will be addressed in the EA and considered by the Commission. Your comments should focus on the potential environmental effects of the proposal, reasonable alternatives (including alternative locations and routes), and measures to avoid or lessen environmental impact. The more specific your comments, the more useful they will be. Please carefully follow these instructions to ensure that your comments are received in time and properly recorded:

• Send an original and two copies of your letter to: Kimberly D. Bose, Secretary, Federal Energy Regulatory Commission, 888 First Street, NE.; Room 1A, Washington, DC 20426.

• Label one copy of the comments for the attention of Gas Branch 1;

• Reference Docket No. CP08-256-000;

• Mail your comments so that they will be received in Washington, DC on or before November 4, 2008.

The Commission encourages electronic filing of comments. See Title 18 of the Code of Federal Regulations, Part 385.2001(a)(1)(iii) and the instructions on the Commission's Internet Web site at http://www.ferc.gov under the link to “Documents and Filings” and “eFiling.” eFiling is a file attachment process and requires that you prepare your submission in the same manner as you would if filing on paper, and save it to a file on your computer hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid email address. All comments submitted under either eFiling or the Quick Comment option are placed in the public record for the specified docket.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor, you must file a motion to intervene according to Rule 214 of the Commission's Rules of Practice and Procedure (18 CFR 385.214) (see appendix B).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. We encourage government representatives to notify their constituents of this proposed project and encourage them to comment on their areas of concern. If you do not return the form included as appendix C, you will be removed from the Commission's environmental mailing list.

Additional Information

Additional information about the project is available from the Commission's Office of External Affairs at 1-866-208 FERC (3372) or on the FERC Internet Web site (http://www.ferc.gov). Using the “eLibrary” link, select “General Search” from the eLibrary menu, enter the selected date range and “Docket Number” excluding the last three digits (i.e., CP08-256), and follow the instructions. For assistance with access to eLibrary, the helpline can be reached at 1-866-208-3676, TTY (202) 502-8659, or at FERCOnlineSupport@ferc.gov. The eLibrary link on the FERC Internet Web site also provides access to the texts of formal documents issued by the Commission such as orders, notices, and rule makings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E8-25624 Filed 10-27-08; 8:45 am]

BILLING CODE 6717-01-P